DEPARTMENT OF THE INTERIOR

Bureau of Reclamation

Navajo-Gallup Water Supply Project, New Mexico

AGENCY: Bureau of Reclamation, Interior.

ACTION: Notice of Availability of the Navajo-Gallup Water Supply Project Planning Report and Final Environmental Impact Statement FES 09-10.

SUMMARY: Pursuant to the National Environmental Policy Act of 1969 (as amended), Public Law (Pub. L.) 92-199, and the general authority to conduct water resources planning under the Reclamation Act of 1902 and all acts amendatory thereof and supplementary thereto, the Bureau of Reclamation (Reclamation), in cooperation with the Navajo Nation, Jicarilla Apache Nation, City of Gallup, State of New Mexico, Bureau of Indian Affairs, Indian Heath Service, Navajo Tribal Utility Authority, and Northwest New Mexico Council of Governments, has prepared and made available to the public a Planning Report and Final Environmental Impact Statement (PR/FEIS). This document was undertaken to provide a discussion for the (1) Various ways to provide a municipal and industrial (M&I) water supply to the Navajo Nation, City of Gallup, and Jicarilla Apache Nation; (2) identification of a preferred alternative; and (3) associated environmental impacts and costs of the No Action and two action alternatives.

ADDRESSES: Requests for copies should be addressed to Mr. Terry Stroh, Bureau of Reclamation, Western Colorado Area Office, 2764 Compass Drive, Suite 106, Grand Junction, Colorado 81506; telephone (970) 248-0608; facsimile (970) 248-0601; e-mail: tstroh@usbr.gov. The PR/FEIS is also available on Reclamation's Web site at http://www.usbr.gov/uc/ (click on Environmental Documents).

Copies of the PR/FEIS are available for public review and inspection at the following locations:

• Main Interior Building, Natural Resources Library, Room 1151, 1849 C Street, NW., Washington, DC.

• Bureau of Reclamation, Denver Office Library, Denver Federal Center, Sixth and Kipling, Building 67, Room 167, Denver, Colorado.

• Bureau of Reclamation, Upper Colorado Regional Office, 125 South State Street, Room 7418, Salt Lake City, Utah.

• Bureau of Reclamation, Western Colorado Area Office, 835 East Second Avenue, Durango, Colorado.

• Bureau of Reclamation, Western Colorado Area Office, 2764 Compass Drive, Suite 106, Grand Junction, Colorado.

• Bureau of Reclamation, Farmington Construction Office, 220 Bloomfield Highway, Farmington, New Mexico.

Libraries

• Albuquerque/Bernalillo County Library, 501 Cooper Avenue, NW., Albuquerque, New Mexico.

• Aztec Public Library, 319 South Ash, Aztec, New Mexico.

• Bloomfield City Library, 333 South First Street, Bloomfield, New Mexico.

• Cortez Public Library, 202 N. Park, Cortez, Colorado.

• Diné College Library, 1228 Yucca Street, Shiprock, New Mexico.

• Durango Public Library, 1188 E. 2nd Avenue, Durango, Colorado.

• Farmington Public Library, 2101 Farmington Avenue, Farmington, New Mexico.

• Fort Lewis College Library, 1000 Rim Drive, Durango, Colorado.

• Navajo Nation Library, Window Rock, Arizona.

• New Mexico State Library, 1209 Camino Carlos Rey, Santa Fe, New Mexico.

• New Mexico State University Library, Las Cruces, New Mexico.

• San Juan College Library, 4601 College Boulevard, Farmington, New Mexico.

• University of Colorado Libraries, Government Publications, 1720 Pleasant Street, Boulder, Colorado.

• Zimmerman Library, Government Information Department, University of New Mexico, Albuquerque, New Mexico.

FOR FURTHER INFORMATION CONTACT: Mr. Stan Powers, Bureau of Reclamation, Western Colorado Area Office, 835 East Second Avenue, Durango, Colorado 81301; telephone (970) 385-6555; facsimile (970) 385-6539; e-mail: spowers@usbr.gov.

SUPPLEMENTARY INFORMATION: The PR/FEIS describes the potential environmental impacts of constructing, operating, and maintaining a water supply system to meet project year 2040 water demands. The purpose of the proposed Federal action is to provide a long-term supply, treatment, and transmission of M&I water to the eastern portion of the Navajo Nation, Jicarilla Apache Nation, and City of Gallup, New Mexico. Construction of the Navajo-Gallup Water Supply Project was authorized in the Omnibus Public Land Management Act of 2009 (Pub. L. 111-11).

The PR/FEIS describes and analyzes in detail three alternatives. Under the No Action Alternative, it is assumed that M&I water supplies and delivery systems would not be constructed on the eastern side of the Navajo Nation, for the City of Gallup, or for the southwestern area of the Jicarilla Apache Nation. Under the two action alternatives, the project would divert a total of 37,764 acre-feet of water per year from the San Juan River with a resulting depletion of 35,893 acre-feet, based upon the 2040 projected population with a demand rate of 160 gallons per capita per day.

Under the San Juan River-Public Service Company of New Mexico (SJR-PNM) Alternative, the Cutter diversion would require 4,645 acre-feet per year with no return flow to the San Juan River. The Public Service Company of New Mexico diversion would take the remaining 33,119 acre-feet of diversion, with an average return flow of 1,871 acre-feet.

The Navajo Indian Irrigation Project-Amarillo Alternative would divert all project water through improved NIIP facilities using both Cutter Reservoir and the Amarillo Canal. This alternative also requires the construction of a 4,500 acre-foot lined storage pond located near the Amarillo Canal.

The PR/FEIS identifies the SJR-PNM Alternative as the preferred alternative. Public Law 111-11 authorizes the Secretary of the Interior (Secretary), acting through the Commissioner of Reclamation (Commissioner), to design, construct, operate, and maintain the project in substantial accordance with the preferred alternative (SJR-PNM) described in the Planning Report and Draft Environmental Impact Statement (PR/DEIS).

Background

The project area includes portions of the Navajo Nation in northwestern New Mexico and northeastern Arizona, and portions of the Jicarilla Apache Nation and the City of Gallup, New Mexico. Project planning has been intermittent over the past 40 years. A project steering committee included representatives from the Navajo Nation, Jicarilla Apache Nation, City of Gallup, Bureau of Indian Affairs, Indian Health Service, Navajo Tribal Utility Authority, Northwest New Mexico Council of Governments, and Reclamation. Funding for the project has mostly been through annual congressional write-in funds and cost sharing by the Navajo and Jicarilla Apache Nations. The level of the analysis (appraisal versus feasibility level work) has been tailored to stay within the funds available. The PR/FEIS includes appraisal-level alternative designs and cost estimates. The Secretary, acting through the Commissioner, is authorized to design, construct, operate, and maintain the Navajo-Gallup Water Supply Project as described in Public Law 111-11.

Purpose and Need for Action

The proposed project is to provide a long-term (year 2040) supply, treatment, and transmission of M&I water to the Navajo Nation, Jicarilla Apache Nation, and the City of Gallup, New Mexico.

A long-term sustainable water supply is needed for the area to support current and future populations. The proposed project will be designed to serve a future population of approximately 250,000 people by the year 2040. Existing groundwater supplies are dwindling, have limited capacity, and are of poor quality. More than 40 percent of Navajo households rely on water hauling to meet daily water needs. The City of Gallup's groundwater levels have dropped by approximately 200 feet over the past 10 years and the supply is not expected to meet current water demands within the decade. The Jicarilla Apache people are currently not able to live and work outside the Town of Dulce on the reservation because of a lack of water supply.

Proposed Federal Action

The proposed project would build facilities to convey a reliable M&I water supply from Navajo Reservoir to the eastern section of the Navajo Nation, the southwestern portion of the Jicarilla Apache Nation, and the City of Gallup, New Mexico. Based upon expected populations in the year 2040, the proposed project would serve approximately 203,000 people in 43 chapters of the Navajo Nation, 1,300 people in the Jicarilla Apache Nation, and approximately 47,000 people in the City of Gallup.

The PR/DEIS was issued to the public on March 30, 2007, and a Notice of Availability of the draft EIS was published in the Federal Register on March 30, 2007 (72 FR 15159-15161). A 90-day public review and comment period for the PR/DEIS ended on June 28, 2007. During the public comment period, five public hearings were held. There were approximately 280 comments identified from letters and public hearings that were addressed for inclusion in the PR/FEIS. Where appropriate, revisions were made in response to specific comments.

No decision will be made on the proposed Federal action until at least 30 days after release of the PR/FEIS. After the 30-day waiting period, Reclamation will complete a Record of Decision. The Record of Decision will state which alternative analyzed in the PR/FEIS will be implemented and discuss all factors leading to that decision.

Dated: June 5, 2009.
Larry Walkoviak,
Regional Director—UC Region.

[FR Doc. E9-15650 Filed 7-2-09; 8:45 am]

BILLING CODE 4310-MN-P